FEDERAL COMMUNICATIONS COMMISSION

Notice of Public Information Collection(s) Being Reviewed by the Federal Communications Commission

December 15, 2004.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 26, 2005. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0798.

Title: FCC Application for Wireless Telecommunications Bureau Radio Service Authorization.

Form No: FCC Form 601.

Type of Review: Revision of a currently approved collection.

Respondents: Individuals or households, business or other for-profit, not-for-profit institutions, and state, local and tribal government.

Number of Respondents: 250,520.

Estimated Time Per Response: .5—1.25 hours.

Frequency of Response: On occasion and every ten year reporting requirements, third party disclosure requirement and recordkeeping requirement.

Total Annual Burden: 219,205 hours.

Total Annual Cost: $50,104,000.

Privacy Act Impact Assessment: Yes.

Needs and Uses: FCC Form 601 is a multi-purpose form used to apply for an authorization to operate radio stations, amend pending applications, modify existing licenses and perform a variety of other miscellaneous tasks in the Public Mobile Services, Personal Communications Services, General Wireless Communications Services, Private Land Mobile Radio Services, Broadcast Auxiliary Services, Fixed Microwave Services, Maritime Services (excluding ships), and Aviation Services (excluding aircraft). The FCC Form 601 has been revised to now include the use of the frequencies in the 764-776 and 794-806 MHz bands pursuant to Part 90, Subpart R (ET Docket No. 97-157); adding an eligibility statement for the specified radio service; an applicant certification for the construction period; and to clarify existing instructions for the general public.

OMB Control No.: 3060-0944.

Title: Review of Commission Consideration of Applications Under the Cable Landing License Act.

Form No: Not Applicable.

Type of Review: Extension of a currently approved collection.

Respondents: Business or other for-profit.

Number of Respondents: 25 respondents; 200 responses.

Estimated Time Per Response: 1—40 hours.

Frequency of Response: On occasion and quarterly reporting requirements and third party disclosure requirement.

Total Annual Burden: 1,001 hours.

Total Annual Cost: $402,175.

Privacy Act Impact Assessment: Not Applicable.

Needs and Uses: The Commission is requesting an extension (no change) to this information collection. The increase in costs for outside legal and engineering assistance changed from $150 to $200 per hour. As a result, the OMB 83i and supporting statement reflects an adjustment of +$50,000. Additionally, we recalculated our estimate for the total annual burden hours. In the International E-Filing Notice of Proposed Rulemaking (NPRM), the Commission sought comment on eliminating paper filings and requiring applicants to file electronically all applications and other filings related to international telecommunications services via the International Bureau Filing System (IBFS). Among other proposals, the Commission proposed the development of several cable landing license forms that impact this information collection. They include, but are not limited to, the following forms: (1) Submarine Cable Landing License (SCL) Amendment—amendment of an application to correct information required for the processing of the original application; (2) SCL Assignment—application to assign a license, or a portion of it, from one entity to another; (3) SCL Landing Point Notification—notification of specific description of the landing stations in the U.S. and foreign countries where the cable will land; and (4) SCL Transfer of Control of License—application to transfer control of a license. The projected completion date for these applications is December 31, 2005. It is anticipated that the Commission will adopt and release a Report and Order in 2005 to implement decisions proposed in the NPRM. The specific decisions are contingent upon comments received from the public and other pertinent factors. After the Report and Order is released by the Commission and the SCL forms are completed, this information collection will be revised to reflect the decisions made in the Report and Order and the implementation of the new forms.

Federal Communications Commission.
Marlene H. Dortch,
Secretary.

[FR Doc. 04-28180 Filed 12-23-04; 8:45 am]

BILLING CODE 6712-01-P